DEPARTMENT OF THE INTERIOR

Fish and Wildlife Service

[FWS-R3-ES-2011-N246; FXES11130300000F3-123-FF03E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Ms. Lisa Mandell, at (612) 713-5343 (phone) or lisa_mandell@fws.gov (email).

SUPPLEMENTARY INFORMATION: We have issued the following permits in response to incidental take and recovery permit applications we received under the authority of section 10 of the Act (16 U.S.C. 1531 et seq.). Each permit listed below was issued only after we determined that it was applied for in good faith; that granting the permit would not be to the disadvantage of the listed species; and that the terms and conditions of the permit were consistent with purposes and policy set forth in the Act.

Applicant name | Permit no. | Date issued | Date expired
RECOVERY PERMITS
ABR, INC. | 224720 | 5/5/2010 | 12/31/2011
AHLSTEDT, STEVEN A | 113009 | 4/8/2011 | 12/31/2012
APPLIED SCIENCE & TECHNOLOGY, INC. | 48835A | 11/3/2011 | 12/31/2013
BAT CONSERVATION AND MANAGEMENT, INC. | 212440 | 4/8/2011 | 12/31/2012
BENEDICT, RUSSELL A | 06820A | 7/22/2010 | 12/31/2011
BERNARDIN—LOCHMUELLER & ASSOCIATES | 06845A | 6/7/2010 | 12/31/2011
BERNARDIN—LOCHMUELLER & ASSOCIATES | 179711 | 6/19/2009 | 12/31/2009
BHE ENVIRONMENTAL, INC | 38789A | 5/16/2011 | 12/31/2012
BHE ENVIRONMENTAL, INC | 809227 | 6/16/2010 | 12/31/2010
BIDART-BOUZAT, MARIA GABRIELA | 43555A | 7/25/2011 | 12/31/2011
BRADLEY, SARAH A | 207149 | 4/20/2009 | 12/31/2010
BRADLEY, SARAH A | 38769A | 5/16/2011 | 12/31/2012
BRITZKE, ERIC R | 023666 | 3/1/2011 | 12/31/2012
BRZYSKI, JESSICA R | 212423 | 6/1/2009 | 12/31/2010
BURKE, THERESA SYDNEY | 02360A | 4/26/2010 | 12/31/2011
CARTER, TIMOTHY C | 02560A | 5/12/2010 | 12/31/2011
CDM MICHIGAN, INC | 15061A | 8/4/2010 | 12/31/2011
CENTER FOR BIODIVERSITY | 006012 | 4/23/2010 | 12/31/2011
CENTRAL LAKE SUPERIOR LAND CONSERVANCY | 212417 | 5/22/2009 | 12/31/2009
CHICAGO BOTANIC GARDENS | 19173A | 8/10/2011 | 12/31/2011
CIVIL AND ENVIRONMENTAL CONSULTANTS, INC. | 07358A | 4/20/2011 | 12/31/2011
CIVIL AND ENVIRONMENTAL CONSULTANTS, INC. | 118259 | 7/2/2009 | 12/31/2009
CORPS OF ENGINEERS, ST PAUL DISTRICT | 02378A | 4/26/2010 | 12/31/2011
COX, DANIEL R | 43605A | 9/15/2011 | 12/31/2013
CUNNINGHAM, GEORGE R | 38862A | 6/30/2011 | 12/31/2012
CUTHBERT, FRANCESCA J. | 212430 | 5/22/2009 | 12/31/2010
CUTHBERT, FRANCESCA J. | 43541A | 7/1/2011 | 12/31/2012
DAVEY RESOURCE GROUP | 235639 | 4/23/2010 | 12/31/2011
ECOLOGICAL SPECIALISTS, INC. | 206781 | 11/2/2011 | 12/31/2012
ECOLOGICAL SPECIALTIES LLC | 09357A | 6/22/2010 | 12/31/2011
ECOLOGY & ENVIRONMENT, INC. | 212427 | 10/25/2011 | 12/31/2012
EMERY, SARAH MICHELLE | 43607A | 7/27/2011 | 12/31/2011
ENVIRONMENTAL SOLUTIONS AND INNOVATIONS, INC. | 023664 | 6/19/2009 | 12/31/2009
ENVIRONMENTAL SOLUTIONS AND INNOVATIONS, INC. | 02373A | 9/9/2011 | 12/31/2011
ENVIROSCIENCE, INC. | 130900 | 9/15/2011 | 12/31/2011
FOWLER RIDGE WIND FARM | 15075A | 3/31/2011 | 12/31/2011
GARVON, JASON MICHAEL | 38860A | 6/3/2011 | 12/31/2012
GEHRT, STANLEY D | 08604A | 6/24/2010 | 12/31/2011
HALSALL, AMY L | 207178 | 3/29/2011 | 12/31/2012
HAMM, CHRISTOPHER ALAN | 175852 | 7/9/2009 | 12/31/2009
HAMM, CHRISTOPHER ALAN | 31215A | 4/5/2011 | 12/31/2012
HELMS, DON R. | 839777 | 3/28/2011 | 12/31/2012
HOGGARTH, MICHAEL A. | 194099 | 5/31/2011 | 12/31/2011
ILLINOIS NATURAL HISTORY SURVEY | 182436 | 3/29/2011 | 12/31/2012
ILLINOIS NATURAL HISTORY SURVEY | 42196A | 7/25/2011 | 12/31/2012
ILLINOIS STATE MUSEUM | 10891A | 6/4/2010 | 12/31/2011
ILLINOIS STATE MUSEUM | 842313 | 6/8/2009 | 12/31/2009
IOWA DEPARTMENT OF NATURAL RESOURCES | 120258 | 1/27/2010 | 12/31/2011
IOWA STATE UNIVERSITY | 226335 | 2/22/2010 | 12/31/2011
J.F. NEW ASSOCIATES, INC. | 02350A | 4/26/2010 | 12/31/2011
J.F. NEW ASSOCIATES, INC. | 38837A | 5/20/2011 | 12/31/2012
KISER, ROBERT R | 216605 | 11/5/2009 | 12/31/2011
KNIOWSKI, ANDREW B | 06843A | 6/17/2010 | 12/31/2011
KRIEGSHAUSER, SHAWNA R | 43545A | 7/26/2011 | 12/31/2011
KURTA, ALLEN | 809630 | 4/10/2009 | 12/31/2013
LAND CONSERVANCY OF WEST MICHIGAN | 06800A | 6/11/2010 | 12/31/2010
LAND CONSERVANCY OF WEST MICHIGAN | 38835A | 5/16/2011 | 12/31/2012
LEWIS ENVIRONMENTAL CONSULTING | 181256 | 4/5/2010 | 12/31/2011
LEWIS, JULIAN J | 31208A | 3/3/2011 | 12/31/2011
MACALESTER COLLEGE | 02381A | 6/23/2011 | 12/31/2011
MAINSTREAM COMMERCIAL DIVERS, INC. | 02344A | 4/26/2010 | 12/31/2011
MALACOLOGICAL CONSULTANTS | 230947 | 12/24/2009 | 12/31/2010
MALCOSKY, MICHELLE | 08603A | 6/11/2010 | 12/31/2011
MARK TWAIN NATIONAL FOREST | 31861A | 4/21/2011 | 12/31/2012
MCCLANAHAN, ROD DANIEL | 06797A | 5/18/2010 | 12/31/2011
MCCLANE, M. BRENT | 15057A | 7/26/2010 | 12/31/2012
METROPOLITAN PARK DISTRICT OF THE TOLEDO AREA | 174388 | 4/15/2011 | 12/31/2012
MICHIGAN DEPARTMENT OF NATURAL RESOURCES | 207154 | 3/26/2009 | 12/31/2009
MICHIGAN DEPARTMENT OF NATURAL RESOURCES | 219624 | 7/18/2011 | 12/31/2011
MIERZWA, KENNETH S | 212393 | 6/29/2010 | 12/31/2010
MIERZWA, KENNETH S | 38793A | 5/18/2011 | 12/31/2012
MINNESOTA POLLUTION CONTROL AGENCY | 31310A | 4/20/2011 | 12/31/2012
MISSOURI DEPARTMENT OF CONSERVATION | 120259 | 3/3/2010 | 12/31/2014
NATURAL RESOURCES RESEARCH INSTITUTE | 207191 | 6/1/2009 | 12/31/2011
NORTHERN ILLINOIS UNIVERSITY | 224719 | 11/27/2009 | 12/31/2011
OHIO DEPARTMENT OF NATURAL RESOURCES | 207180 | 5/13/2011 | 12/31/2015
OHIO DIVISION OF WILDLIFE | 151109 | 12/28/2010 | 12/31/2012
OWENS, NICHOLAS L | 182430 | 6/2/2009 | 12/31/2009
PERDICAS, MARLO MARIE | 206783 | 4/8/2011 | 12/31/2012
PITTSBURGH WILDLIFE & ENVIRONMENTAL, INC. | 06801A | 5/26/2010 | 12/31/2011
REDWING ECOLOGICAL SERVICES, INC. | 07730A | 7/20/2010 | 12/31/2012
REDWING ECOLOGICAL SERVICES, INC. | 151107 | 5/23/2011 | 12/31/2011
ROBBINS, LYNN W. | 02365A | 11/8/2011 | 12/31/2012
ROE, KEVIN J. | 48832A | 10/18/2011 | 12/31/2013
SANDERS ENVIRONMENTAL INC | 38842A | 6/3/2011 | 12/31/2012
SHAWNEE NATIONAL FOREST | 06778A | 5/18/2010 | 12/31/2011
SKELLY AND LOY, INC. | 38856A | 10/21/2011 | 12/31/2012
SLACK, WILLIAM TODD | 54326A | 10/18/2011 | 12/31/2015
SMITHSONIAN INSTITUTION | 06846A | 4/30/2010 | 12/31/2011
SOLUK, DANIEL A | 805269 | 12/17/2010 | 12/31/2014
SOUTHERN ILLINOIS UNIVERSITY | 042946 | 4/26/2011 | 12/31/2012
ST. LOUIS ZOO | 135297 | 4/25/2011 | 12/31/2012
STANTEC CONSULTING SERVICES | 152002 | 4/27/2010 | 12/31/2010
STANTEC CONSULTING SERVICES | 38821A | 5/19/2011 | 12/31/2012
STANTEC CONSULTING SERVICES, INC. | 15027A | 7/23/2010 | 12/31/2011
STEFFEN, BRADLEY JAMES | 207150 | 4/21/2009 | 12/31/2010
TAWSE, MERRILL BERNARD | 207560 | 4/22/2009 | 12/31/2010
TAWSE, MERRILL BERNARD | 38785A | 5/16/2011 | 12/31/2012
THE FIELD MUSEUM OF NATURAL HISTORY | 06795A | 5/25/2010 | 12/31/2011
THE HOLDEN ARBORETUM | 38858A | 6/24/2011 | 12/31/2012
THE NATURE CONSERVANCY | 127441 | 6/25/2010 | 12/31/2010
THE NATURE CONSERVANCY—MICHIGAN CHAPTER | 207523 | 4/21/2011 | 12/31/2012
THE OHIO DEPARTMENT OF TRANSPORTATION | 02651A | 8/8/2011 | 12/31/2011
THE TOLEDO ZOO | 106217 | 4/26/2010 | 12/31/2012
THIRD ROCK CONSULTANTS, LLC | 049738 | 9/9/2011 | 12/31/2012
TIMPONE, JOHN CHARLES | 120231 | 7/22/2011 | 12/31/2012
TOMASI, THOMAS E | 195082 | 12/22/2010 | 12/31/2012
TRAGUS ENVIRONMENTAL CONSULTING, INC. | 105320 | 4/6/2011 | 12/31/2012
U.S. ENVIRONMENTAL PROTECTION AGENCY | 06844A | 3/8/2011 | 12/31/2015
U.S. FISH AND WILDLIFE SERVICE | 06841A | 4/22/2011 | 11/30/2014
U.S. FISH AND WILDLIFE SERVICE | 206778 | 4/18/2011 | 12/31/2012
U.S. FISH AND WILDLIFE SERVICE | 697830 | 12/16/2010 | 12/31/2015
U.S. FOREST SERVICE | 217351 | 8/18/2009 | 12/31/2011
U.S. GEOLOGICAL SURVEY | 10887A | 7/25/2011 | 12/31/2013
U.S. GEOLOGICAL SURVEY | 38866A | 5/25/2011 | 12/31/2012
U.S. GEOLOGICAL SURVEY | 831774 | 3/16/2009 | 12/31/2010
UNIVERSITY OF WISCONSIN—STEVENS POINT | 08602A | 6/14/2010 | 12/31/2011
UPPER PENINSULA LAND CONSERVANCY | 06822A | 7/1/2011 | 12/31/2011
US GEOLOGICAL SURVEY | 207526 | 9/29/2011 | 12/31/2011
USDA FOREST SERVICE | 06809A | 5/18/2010 | 12/31/2011
VANDE KOPPLE, ROBERT J | 11035A | 6/23/2010 | 12/31/2011
VOLK FIELD—CRTC—ANG | 19777A | 8/11/2010 | 3/31/2011
VUCETICH, JOHN A | 212420 | 8/27/2009 | 12/31/2011
WALTERS, BRIANNE LORRAINE | 106220 | 4/4/2011 | 12/31/2012
WATTERS, GEORGE THOMAS | 088720 | 9/15/2011 | 12/31/2012
WESTERN ECOSYSTEMS TECHNOLOGY, INC. | 234121 | 4/22/2011 | 12/31/2011
WHITAKER, JOHN O. | 839763 | 7/1/2011 | 12/31/2012
WISCONSIN DEPARTMENT OF NATURAL RESOURCES | 20323A | 9/1/2011 | 8/6/2020
ZANATTA, DAVID T | 212435 | 7/28/2009 | 6/30/2011
INCIDENTAL TAKE PERMITS
EXELON GENERATION COMPANY, LLC | 17852A | 8/16/2010 | 8/15/2034
MICHIGAN DEPARTMENT OF NATURAL RESOURCES | 213404 | 7/1/2010 | 12/31/2030
WISCONSIN DEPARTMENT OF NATURAL RESOURCES | 010064 | 7/12/2010 | 12/31/2019

Availability of Documents

Documents and other information submitted with these applications are available for review, subject to the requirements of the Privacy Act and Freedom of Information Act, by any party who submits a written request for a copy of such documents to Lisa Mandell (see FOR FURTHER INFORMATION CONTACT).

Authority: The authority for this notice is the Endangered Species Act of 1973, as amended (16 U.S.C. 1531 et seq.).

Dated: November 21, 2011.
Lynn M. Lewis,
Assistant Regional Director, Ecological Services, Midwest Region.

[FR Doc. 2011-30828 Filed 11-29-11; 8:45 am]

BILLING CODE 4310-55-P